DEPARTMENT OF LABOR

Employment and Training Administration

[TA-W-71,501, TA-W-71,501A, et al.]

Sony Electronics, Inc.; Amended Certification Regarding Eligibility To Apply for Worker Adjustment Assistance

TA-W-71,501, Sony Electronics, Inc., SEL Headquarters, Including On-Site Leased Workers of Selectremedy, Staffmark, and Payrolling.com, San Diego, California;

TA-W-71,501A, Sony Electronics, Inc., Including On-Site Leased Workers of Selectremedy, Staffmark, and Payrolling.com, San Jose, California;

TA-W-71,501B, Sony Electronics, Inc., Including On-Site Leased Workers of Willstaff, Danco Industrial Contractors, Advantage, Cyclone Automation, and Rjesus Fabrication, Dothan, Alabama;

TA-W-71,501C, Sony Electronics, Inc., Including On-Site Leased Workers of Selectremedy, Itasca, Illinois;

TA-W-71,501D, Sony Electronics, Inc., Including On-Site Leased Workers of Select Staffing, Carson, California;

TA-W-71,501E, Sony Electronics, Inc., Culver City, California;

TA-W-71,501F, Sony Electronics, Inc., Lake Forest, California;

TA-W-71,501G, Sony Electronics, Inc., Los Angeles, California;

TA-W-71,501H, Sony Electronics, Inc., Ft. Myers, Florida;

TA-W-71,501I, Sony Electronics, Inc., Miami, Florida;

TA-W-71,501J, Sony Electronics, Inc., Honolulu, Hawaii;

TA-W-71,501K, Sony Electronics, Inc., Novi, Michigan;

TA-W-71,501L, Sony Electronics, Inc., Including On-Site Leased Workers of Kelly Services, Kansas City, Missouri;

TA-W-71,501M, Sony Electronics, Inc., Park Ridge, New Jersey;

TA-W-71,501N, Sony Electronics, Inc., Including On-Site Leased Workers of Select Staffing, Teaneck, New Jersey;

TA-W-71,501O, Sony Electronics, Inc., Irving, Texas;

TA-W-71,501P, Sony Electronics, Inc., Richmond, Virginia.

In accordance with Section 223 of the Trade Act of 1974, as amended (“Act”), 19 U.S.C. 2273, the Department of Labor issued a Certification of Eligibility to Apply for Worker Adjustment Assistance on April 27, 2010, applicable to workers of Sony Electronics, Inc., SEL Headquarters, including on-site leased workers of SelectRemedy, StaffMark, and Payrolling.com, San Diego, California (TA-W-71,501); Sony Electronics, Inc., including on-site leased workers of SelectRemedy, StaffMark, and PayRolling.com, San Jose, California (TA-W-71,501A); Sony Electronics, Inc., including on-site leased workers of WillStaff, Danco Industrial Contractors, Advantage, Cyclone Automation, and Rjesus Fabrication, Dothan, Alabama (TA-W-71,501B); and Sony Electronics, Inc., including on-site leased workers of SelectRemedy, Itasca, Illinois (TA-W-71,501C). The notice was published in the Federal Register on July 1, 2010 (75 FR 38143-38144).

At the request of a company official, the Department reviewed the certification for workers of the subject firm. The workers are engaged in activities related to production of electronics and various support operations, including marketing, professional, corporate and customer support, import/export compliance, procurement, and warranty services.

New information shows that worker separations also occurred during the relevant time period at Bentonville, Arkansas; Carson, California; Culver City, California; Lake Forest, California; Los Angeles, California; Boulder, Colorado; Ft. Myers, Florida; Miami, Florida; Honolulu, Hawaii; Novi, Michigan; Troy, Michigan; Eden Prairie, Minnesota; Kansas City, Missouri; Park Ridge, New Jersey; Teaneck, New Jersey; Irving, Texas; Laredo, Texas; and Richmond, Virginia Sony Electronics, Inc. facilities. The relevant data supplied by Sony Electronics, Inc. to the Department during its investigation included the above eighteen locations.

Based on these findings, the Department is amending this certification to include employees of Carson, California, including on-site leased workers of Select Staffing (TA-W-71,501D); Culver City, California (TA-W-71,501E); Lake Forest, California (TA-W-71,501F); Los Angeles, California (TA-W-71,501G); Ft. Myers, Florida (TA-W-71,501H); Miami, Florida (TA-W-71,501I); Honolulu, Hawaii (TA-W-71,501J); Novi, Michigan (TA-W-71,501K); Kansas City, Missouri, including on-site leased workers of Kelly Services (TA-W-71,501L); Park Ridge, New Jersey (TA-W-71,501M); Teaneck, New Jersey, including on-site leased workers of Select Staffing (TA-W-71,501N); Irving, Texas (TA-W-71,501O); and Richmond, Virginia (TA-W-71,501P).

Workers at Bentonville, Arkansas; Boulder, Colorado; Troy, Michigan; Eden Prairie, Minnesota; and Laredo, Texas were not included in the amended certification because these firms either did not employ worker groups (at least three full-time workers during the year preceding the TAA petition filing date), or fewer than three workers were separated and/or threatened with separations during the relevant period.

The intent of the Department's certification is to include all workers of the subject firm who were adversely affected by a shift in production of electronics and various support operations, including marketing, professional, corporate and customer support, import/export compliance, procurement, and warranty services, to Mexico, China, India, and Japan.

The amended notice applicable to TA-W-71,501 is hereby issued as follows:

Conclusion

After careful review of the facts obtained in the investigation, I determine that workers of Sony Electronics, Inc., SEL Headquarters, including on-site leased workers of SelectRemedy, StaffMark, and Payrolling.com, San Diego, California (TA-W-71,501); Sony Electronics, Inc., including on-site leased workers of SelectRemedy, StaffMark, and Payrolling.com, San Jose, California (TA-W-71,501A); Sony Electronics, Inc., including on-site leased workers of WillStaff, Danco Industrial Contractors, Advantage, Cyclone Automation, and Rjesus Fabrication, Dothan, Alabama (TA-W-71,501B); and Sony Electronics, Inc., including on-site leased workers of SelectRemedy, Itasca, Illinois (TA-W-71,501C), Carson, California, including on-site leased workers of Select Staffing (TA-W-71,501D); Culver City, California (TA-W-71,501E); Lake Forest, California (TA-W-71,501F); Los Angeles, California (TA-W-71,501G); Ft. Myers, Florida (TA-W-71,501H); Miami, Florida (TA-W-71,501I); Honolulu, Hawaii (TA-W-71,501J); Novi, Michigan (TA-W-71,501K); Kansas City, Missouri, including on-site leased workers of Kelly Services (TA-W-71,501L); Park Ridge, New Jersey (TA-W-71,501M); Teaneck, New Jersey, including on-site leased workers of Select Staffing (TA-W-71,501N); Irving, Texas (TA-W-71,501O); and Richmond, Virginia (TA-W-71,501P), who are engaged in employment related to production of electronics and various support operations, including marketing, professional, corporate and customer support, import/export compliance, procurement, and warranty services, meet the worker group certification criteria under Section 222(a) of the Act, 19 U.S.C. 2272(a). In accordance with Section 223 of the Act, 19 U.S.C. 2273, I make the following certification:

All workers of Sony Electronics, Inc., SEL Headquarters, including on-site leased workers of SelectRemedy, StaffMark, and Payrolling.com, San Diego, California (TA-W-71,501); Sony Electronics, Inc., including on-site leased workers of SelectRemedy, StaffMark, and Payrolling.com, San Jose, California (TA-W-71,501A); Sony Electronics, Inc., including on-site leased workers of WillStaff, Danco Industrial Contractors, Advantage, Cyclone Automation, and Rjesus Fabrication, Dothan, Alabama (TA-W-71,501B); and Sony Electronics, Inc., including on-site leased workers of SelectRemedy, Itasca, Illinois (TA-W-71,501C), Carson, California, including on-site leased workers of Select Staffing (TA-W-71,501D); Culver City, California (TA-W-71,501E); Lake Forest, California (TA-W-71,501F); Los Angeles, California (TA-W-71,501G); Ft. Myers, Florida (TA-W-71,501H); Miami, Florida (TA-W-71,501I); Honolulu, Hawaii (TA-W-71,501J); Novi, Michigan (TA-W-71,501K); Kansas City, Missouri, including on-site leased workers of Kelly Services (TA-W-71,501L); Park Ridge, New Jersey (TA-W-71,501M); Teaneck, New Jersey, including on-site leased workers of Select Staffing (TA-W-71,501N); Irving, Texas (TA-W-71,501O); and Richmond, Virginia (TA-W-71,501P) who became totally or partially separated from employment on or after June 22, 2008, through two years from the date of certification, and all workers in the group threatened with total or partial separation from employment on date of certification through two years from the date of certification, are eligible to apply for adjustment assistance under Chapter 2 of Title II of the Trade Act of 1974, as amended.

Signed in Washington, DC, this 13th day of August 2010.
Del Min Amy Chen,
Certifying Officer, Division of Trade Adjustment Assistance.

Editorial Note: This document was received in the Office of the Federal Register on November 8, 2010.

[FR Doc. 2010-28485 Filed 11-10-10; 8:45 am]

BILLING CODE 4510-FN-P